OFFICE OF PERSONNEL MANAGEMENT

Excepted Service; August 2017

AGENCY: Office of Personnel Management (OPM).

ACTION: Notice.

SUMMARY: This notice identifies Schedule A, B, and C appointing authorities applicable to a single agency that were established or revoked from August 1, 2017 to August 31, 2017.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management publishes a notice of agency-specific authorities established or revoked each month in the Federal Register at www.gpo.gov/fdsys/. OPM also publishes an annual notice of the consolidated listing of all Schedule A, B, and C appointing authorities, current as of June 30, in the Federal Register.

Schedule A

No schedule A authorities to report during August 2017.

Schedule B

No schedule B authorities to report during August 2017.

The following Schedule C appointing authorities were approved during August 2017.

Agency name | Organization name | Position title | Authorization No. | Effective date
DEPARTMENT OF AGRICULTURE | Office of the Assistant Secretary for Congressional Relations | Deputy Director for Intergovernmental Affairs | DA170172 | 08/03/2017
| Office of the Secretary | White House Liaison | DA170173 | 08/03/2017
| Office of Communications | Speechwriter | DA170174 | 08/09/2017
|  | Press Assistant | DA170175 | 08/09/2017
| Office of Rural Housing Service | State Director—Idaho | DA170185 | 08/30/2017
DEPARTMENT OF COMMERCE | Office of Assistant Secretary Legislative and Intergovernmental Affairs | Confidential Assistant | DC170155 | 08/04/2017
CONSUMER PRODUCT SAFETY COMMISSION | Office of Commissioners | Special Assistant (Legal) (2) | PS170005 | 08/30/2017
|  |  | PS170006 | 08/30/2017
DEPARTMENT OF DEFENSE | Office of the Assistant Secretary of Defense (Legislative Affairs) | Special Assistant (Legislative Affairs) | DD170175 | 08/04/2017
| Office of the Secretary of Defense | Advance Officer (2) | DD170139 | 08/30/2017
|  |  | DD170222 | 08/31/2017
|  | Director, Travel Operations | DD170203 | 08/04/2017
|  | Director of Operations/Confidential Assistant | DD170205 | 08/04/2017
| Office of the Assistant Secretary of Defense (International Security Affairs) | Special Assistant for Russia, Ukraine and Eurasia Special Assistant for Middle East | DD170208 DD170209 | 08/04/2017 08/04/2017
| Office of the Assistant Secretary of Defense (Homeland Defense and Global Security ) | Special Assistant for Defense Continuity and Mission Assurance | DD170216 | 08/04/2017
| Office of the Assistant Secretary of Defense (Special Operations/Low Intensity Conflict) | Special Assistant for Stability and Humanitarian Affairs | DD170217 | 08/04/2017
| Office of the Assistant Secretary of Defense (International Security Affairs) | Special Assistant for Middle East | DD170212 | 08/08/2017
| Office of Assistant Secretary of Defense (Manpower and Reserve Affairs) | Special Assistant for Manpower and Reserve Affairs | DD170215 | 08/09/2017
| Office of the Assistant Secretary of Defense (Asian and Pacific Security Affairs) | Special Assistant (South and Southeast Asia) | DD170219 | 08/25/2017
| Office of the Under Secretary of Defense (Acquisition, Technology, and Logistics) | Special Assistant for Acquisition | DD170221 | 08/30/2017
DEPARTMENT OF THE ARMY | Office Assistant Secretary Army (Financial Management and Comptroller) | Special Assistant (Financial Management and Comptroller) | DW170026 | 08/25/2017
DEPARTMENT OF THE NAVY | Office of the Assistant Secretary of Navy (Financial Management and Comptroller) | Special Assistant | DN170020 | 08/17/2017
| Office of the Under Secretary of the Navy | Special Assistant | DN170022 | 08/17/2017
| Office of the Assistant Secretary of Navy (Manpower and Reserve Affairs) | Special Assistant (Manpower and Reserve Affairs) | DN170024 | 08/29/2017
| Office of the Assistant Secretary of Navy (Energy, Installations and Environment) | Special Assistant to the Assistant Secretary of the Navy (Energy, Installations and Environment) | DN170025 | 08/29/2017
DEPARTMENT OF EDUCATION | Office of the Secretary | Confidential Assistant | DB170135 | 08/02/2017
|  | Special Assistant (2) | DB170136 | 08/04/2017
|  |  | DB170138 | 08/17/2017
| Office of the General Counsel | Attorney Adviser | DB170132 | 08/07/2017
| Office of Communications and Outreach | Confidential Assistant | DB170134 | 08/11/2017
| Office of the Under Secretary | Special Assistant (Supervisory) | DB170139 | 08/25/2017
DEPARTMENT OF ENERGY | Office of the Deputy Secretary | Special Advisor | DE170196 | 08/08/2017
| Office of Scheduling and Advance | Director of Advance | DE170200 | 08/10/2017
| Office of Public Affairs | Writer-Editor (Chief Speechwriter) | DE170203 | 08/30/2017
| Office of Management | Special Assistant | DE170207 | 08/30/2017
ENVIRONMENTAL PROTECTION AGENCY | Office of Public Engagement and Environmental Education | Associate Administrator for the Office of Public Engagement and Environmental Education | EP170082 | 08/09/2017
FEDERAL ENERGY REGULATORY COMMISSION | Office of the Chairman | Confidential Assistant | DR170007 | 08/28/2017
GENERAL SERVICES ADMINISTRATION | Office of Great Lakes Region | Senior Advisor | GS170036 | 08/04/2017
| Office of Federal Acquisition Service | Senior Advisor | GS170043 | 08/04/2017
| Office of the Administrator | Special Assistant | GS170048 | 08/30/2017
DEPARTMENT OF HEALTH AND HUMAN SERVICES | Office of the Secretary | Advisor, Scheduling Operations Trip Coordinator Deputy Director of Advance Director of Scheduling and Advance | DH170270 DH170271 DH170302 DH170294 | 08/02/2017 08/02/2017 08/09/2017 08/02/2017
| Office of the Assistant Secretary for Health | Special Advisor | DH170277 | 08/02/2017
| Office of Administration for Children and Families | Policy Advisor | DH170306 | 08/04/2017
| Office of Centers for Medicare and Medicaid Services | Policy Advisor | DH170320 | 08/22/2017
| Office of Global Affairs | Chief of Staff | DH170307 | 08/25/2017
| Office of Intergovernmental and External Affairs | Advisor for External Affairs | DH170308 | 08/25/2017
| Office of the Assistant Secretary for Public Affairs | Press Assistant (Regional Media) | DH170316 | 08/28/2017
DEPARTMENT OF HOMELAND SECURITY | Office of the Assistant Secretary for Public Affairs | Deputy Press Secretary | DM170245 | 08/04/2017
| Office of United States Customs and Border Protection | Press Secretary | DM170215 | 08/11/2017
| Office of Domestic Nuclear Detection | Program Analyst Special Assistant | DM170253 DM170269 | 08/17/2017 08/30/2017
| Office of the General Counsel | Oversight Counsel | DM170260 | 08/29/2017
| Office of the Chief of Staff | Confidential Assistant | DM170264 | 08/29/2017
| Office of Federal Emergency Management Agency | Press Secretary | DM170275 | 08/29/2017
DEPARTMENT OF HOUSING AND URBAN DEVELOPMENT | Office of the Secretary | Special Assistant Senior Advisor | DU170149 DU170166 | 08/04/2017 08/18/2017
| Office of Faith-Based and Community Initiatives | Director of Faith Based | DU170158 | 08/04/2017
| Office of Fair Housing and Equal Opportunity | Special Assistant | DU170159 | 08/04/2017
| Office of the Deputy Secretary | Special Assistant | DU170160 | 08/11/2017
|  | Scheduler | DU170161 | 08/22/2017
| Office of Congressional and Intergovernmental Relations | Deputy Assistant Secretary for Intergovernmental Relations | DU170126 | 08/15/2017
| Office of Policy Development and Research | Special Policy Advisor | DU170172 | 08/17/2017
| Office of Public Affairs | Deputy Assistant Secretary for Public Affairs | DU170170 | 08/18/2017
| Office of Field Policy and Management | Senior Advisor | DU170173 | 08/18/2017
| Office of the Administration | Senior Advisor | DU170165 | 08/22/2017
DEPARTMENT OF JUSTICE | Office of Civil Division | Counsel | DJ170154 | 08/04/2017
DEPARTMENT OF LABOR | Office of the Assistant Secretary for Policy | Policy Advisor | DL170082 | 08/09/2017
| Office of the Solicitor | Counsel | DL170087 | 08/09/2017
| Office of Wage and Hour Division | Senior Policy Advisor | DL170074 | 08/17/2017
| Office of Public Affairs | Communications Director | DL170078 | 08/30/2017
|  | Staff Assistant | DL170083 | 08/30/2017
| Office of the Secretary | White House Liaison | DL170088 | 08/30/2017
NATIONAL AERONAUTICS AND SPACE ADMINISTRATION | Office of the Chief Financial Officer | Policy Analyst | NN170048 | 08/11/2017
NATIONAL ENDOWMENT FOR THE HUMANITIES | National Endowment for the Humanities | Director of Communications Director of Congressional Affairs | NH170005 NH170008 | 08/09/2017 08/22/2017
|  | Senior Advisor | NH170006 | 08/24/2017
OFFICE OF MANAGEMENT AND BUDGET | Office of the Director | Advisor | BO170087 | 08/24/2017
OFFICE OF NATIONAL DRUG CONTROL POLICY | Office of Legislative Affairs | Public Affairs Specialist (Press Secretary) | QQ170010 | 08/17/2017
|  | Program Support Specialist | QQ170012 | 08/30/2017
SMALL BUSINESS ADMINISTRATION | Office of Government Contracting and Business Development | Special Advisor | SB170052 | 08/04/2017
| Office of Communications and Public Liaison | Press Secretary | SB170051 | 08/22/2017
DEPARTMENT OF STATE | Office of the Chief of Protocol | Protocol Officer (Visits) | DS170191 | 08/25/2017
| Office of the Under Secretary for Management | Special Assistant | DS170135 | 08/30/2017
| Office of the Deputy Secretary | Special Assistant | DS170190 | 08/30/2017
DEPARTMENT OF TRANSPORTATION | Office of the Assistant Secretary for Transportation Policy | Associate Director for Public Engagement | DT170144 | 08/09/2017
| Office of the Administrator | Special Assistant (2) | DT170127 | 08/10/2017
|  |  | DT170053 | 08/30/2017
| Office of Immediate Office of the Administrator | Special Assistant | DT170129 | 08/10/2017
| Office of the Secretary | Special Assistant for Scheduling and Advance | DT170137 | 08/10/2017
| Office of Public Affairs | Special Assistant | DT170124 | 08/16/2017
| Office of the Assistant Secretary for Governmental Affairs | Senior Governmental Affairs Officer | DT170141 | 08/17/2017
| Office of the Executive Secretariat | Special Assistant | DT170147 | 08/22/2017
DEPARTMENT OF THE TREASURY | Department of the Treasury | Special Assistant | DY170161 | 08/17/2017

The following Schedule C appointing authorities were revoked during August 2017.

Agency name | Organization name | Position title | Request No. | Date vacated
DEPARTMENT OF AGRICULTURE | Office of the Secretary | Deputy White House Liaison | DA170116 | 08/05/2017
| Office of Communications | Press Assistant | DA170153 | 08/18/2017
DEPARTMENT OF COMMERCE | Office of the Chief of Staff | Director of Scheduling | DC170083 | 08/04/2017
COMMISSION ON CIVIL RIGHTS | Office of the Commissioners | Special Assistant to the Commissioner | CC140001 | 08/06/2017
DEPARTMENT OF DEFENSE | Office of the Secretary of Defense | Speechwriter | DD140139 | 08/15/2017
DEPARTMENT OF HEALTH AND HUMAN SERVICES | Office of the Assistant Secretary for Public Affairs | Assistant Speechwriter Press Assistant (Regional Media) | DH170212 DH170175 | 08/03/2017 08/27/2017
|  | Chief Spokesperson | DH170216 | 08/19/2017
| Office of Administration for Children and Families | Special Assistant | DH170190 | 08/05/2017
| Office of the Assistant Secretary for Health | Special Assistant | DH170097 | 08/05/2017
| Office of the Secretary | Director of Advance Special Assistant | DH170169 DH170180 | 08/05/2017 08/05/2017
| Office of Centers for Medicare and Medicaid Services | Special Assistant | DH170255 | 08/21/2017
DEPARTMENT OF HOMELAND SECURITY | Office of the Chief of Staff | Special Assistant | DM170132 | 08/03/2017
ENVIRONMENTAL PROTECTION AGENCY | Office of Public Affairs | Deputy Associate Administrator for Public Affairs (2) | EP170048 EP170051 | 08/12/2017 08/19/2017
| Office of the Associate Administrator for Congressional and Intergovernmental Relations | Deputy Associate Administrator for Congressional and Intergovernmental Relations | EP170045 | 08/12/2017
FEDERAL ENERGY REGULATORY COMMISSION | Office of the Chairman | Confidential Assistant | DR150009 | 08/04/2017
| Federal Energy Regulatory Commission | Confidential Assistant | DR170003 | 08/12/2017
OFFICE OF NATIONAL DRUG CONTROL POLICY | Office of the Director | Chief Strategist White House Liaison | QQ170005 QQ170003 | 08/05/2017 08/19/2017
PRESIDENTS COMMISSION ON WHITE HOUSE FELLOWSHIPS | Presidents Commission on White House Fellowships | Deputy Director | WH160002 | 08/25/2017
SECURITIES AND EXCHANGE COMMISSION | Office of the Chief Operating Officer | Chief Operating Officer | SE100006 | 08/15/2017

Authority: 5 U.S.C. 3301 and 3302; E.O. 10577, 3 CFR, 1954-1958 Comp., p. 218.

U.S. Office of Personnel Management.
Kathleen M. McGettigan,
Acting Director.

[FR Doc. 2018-03511 Filed 2-20-18; 8:45 am]

BILLING CODE 6325-39-P